DEPARTMENT OF TRANSPORTATION

Office of the Secretary

Notice of Applications for Certificates of Public Convenience and Necessity and Foreign Air Carrier Permits Filed Under Subpart B (Dormerly Subpart Q) During the Week Ending December 15, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-26610.

Date Filed: December 13, 2006.

Due Date for Answers, Conforming Applications, or Motion to Modify Scope:January 3, 2007.

Description: Application of Murray Air, Inc. requesting reissuance of its certificate of public convenience and necessity in the name of National Air Group, Inc.

Docket Number: OST-2006-26649 .

Date Filed: December 15, 2006.

Due Date for Answers, Conforming Applications, or Motion to Modify Scope: January 5, 2007.

Description: Application of All Nippon Airways Co., Ltd. (ANA), requesting an amendment to its foreign air carrier permit authorizing ANA to engage in (a) scheduled all-cargo service between any point or points in Japan, on the one hand, and Chicago, Los Angeles San Francisco and New York (via a technical stop at Anchorage), on the other hand, and (b) charter all-cargo service between any point or points in Japan and any point or points in the United States, and other all-cargo charters.

Renee V. Wright,
Program Manager, Docket Operations, Federal Register Liaison.

[FR Doc. E6-22275 Filed 12-27-06; 8:45 am]

BILLING CODE 4910-9X-P